DEPARTMENT OF COMMERCE

International Trade Administration

[A-570-007]

Barium Chloride From the People's Republic of China: Final Results of the Expedited Fifth Sunset Review of the Antidumping Duty Order

AGENCY: Enforcement and Compliance, International Trade Administration, Department of Commerce.

SUMMARY: The Department of Commerce (Commerce) finds that revocation of the antidumping duty order on barium chloride from the People's Republic of China (China) would be likely to lead to continuation or recurrence of dumping at the levels indicated in the “Final Results of Sunset Review” section of this notice.

DATES: Applicable January 27, 2021.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Background

On October 17, 1984, Commerce issued the Order on barium chloride from China.¹ On October 1, 2020, Commerce published the notice of initiation of the five-year sunset review of the Order, pursuant to section 751(c) of the Act of 1930, as amended (the Act).² On October 6, 2020, Commerce received a notice of intent to participate in this review from Chemical Products Corporation (CPC) within the deadline specified in 19 CFR 351.218(d)(1)(i).³ CPC claimed interested party status under section 771(9)(C) of the Act as a manufacturer of a domestic like product in the United States. On October 30, 2020, CPC provided a complete substantive response for this review within the 30-day deadline specified in 19 CFR 351.218(d)(3)(i).⁴ We received no substantive responses from any other interested parties, nor was a hearing requested. On November 20, 2020, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of the Order.

¹ See Antidumping Duty Order; Barium Chloride from the People's Republic of China, 49 FR 40635 (October 17, 1984) (Order).

² See Initiation of Five-Year (Sunset) Reviews, 85 FR 61928 (October 1, 2020).

³ See CPC's Letter, “Notice of Intent to Participate,” dated October 6, 2020.

⁴ See CPC's Letter, “Fifth Five-Year Review of Barium Chloride from China: Substantive Response to Notice of Initiation,” dated October 30, 2020.

⁵ See Commerce's Letter, “Sunset Reviews Initiated on October 1, 2020,” dated November 20, 2020.

Scope of the Order

The merchandise covered by the order is barium chloride, a chemical compound having the formulas BaCl2 or BaCl2-2H2O, currently classifiable under subheading 2827.39.4500 of the Harmonized Tariff Schedule of the United States (HTSUS).⁶ Although the HTSUS subheading is provided for convenience and customs purposes, the written description of the scope of this order is dispositive.

⁶ The scope reflects the HTSUS subheading currently in effect.

Analysis of Comments Received

All issues raised in this review, including the likelihood of continuation or recurrence of dumping in the event of revocation and the magnitude of the margins likely to prevail if the Order were revoked, are addressed in the accompanying Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/. The signed and electronic versions of the Issues and Decision Memorandum are identical in content.

⁷ See Memorandum, “Issues and Decision Memorandum for the Final Results of the Expedited Fifth Sunset Review of the Antidumping Duty Order on Barium Chloride from the People's Republic of China,” dated concurrently with, and hereby adopted by, this notice.

Final Results of Sunset Review

Pursuant to sections 751(c)(1), and 752(c)(1) and (3) of the Act, Commerce determines that revocation of the antidumping duty order on barium chloride from China would likely lead to continuation or recurrence of dumping, and that the magnitude of the margin likely to prevail is up to 155.50 percent.⁸

⁸ Id.

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: January 21, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely To Prevail

VII. Final Results of Sunset Review

VIII. Recommendation

[FR Doc. 2021-01790 Filed 1-26-21; 8:45 am]

BILLING CODE 3510-DS-P